DEPARTMENT OF COMMERCE

Census Bureau

Annual Survey of Manufacturers

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 12, 2003.

ADDRESSES: Direct all written comments to Diana Hynek, Departmental Paperwork Clearance Officer, Department of Commerce, Room 6625, 14th and Constitution Avenue, NW., Washington, DC 20230 (or via the Internet at dhynek@doc.gov).

FOR FURTHER INFORMATION CONTACT: Requests for additional information or copies of the information collection instrument(s) and instructions should be directed to Mendel D. Gayle, Census Bureau, Room 2108, Building 4, Washington, DC 20233, (301) 763-4769 or via the Internet at mendel.d.gayle@census.gov.

SUPPLEMENTARY INFORMATION

I. Abstract

The Census Bureau has conducted the Annual Survey of Manufacturers (ASM) since 1949 to provide key measures of manufacturing activity during intercensal periods. In census years ending in “2” and “7”, we mail and collect the ASM as part of the Economic Census covering the Manufacturing Sector. This survey is an integral part of the Government's statistical program. The ASM furnishes up-to-date estimates of employment and payrolls, hours and wages of production workers, value added by manufacture, cost of materials, value of shipments by product class, inventories, and expenditures for both plant and equipment and structures. The survey provides data for most of these items for each of the 473 industries as defined in the North American Industry Classification System (NAICS). It also provides geographic data by state at a more aggregated industry level.

The survey also provides valuable information to private companies, research organizations, and trade associations. Industry makes extensive use of the annual figures on product class shipments at the U.S. level in its market analysis, product planning, and investment planning. The ASM data are used to benchmark and reconcile monthly and quarterly data on manufacturing production and inventories.

II. Method of Collection

The ASM statistics are based on a survey which includes two components, mail and nonmail. The mail portion of the survey is a probability sample of about 55,000 manufacturing establishments selected from a total of about 225,000 establishments. These 225,000 establishments represent all manufacturing establishments of multiunit companies (companies that operate at more than one physical location) and all single-establishment manufacturing companies that were mailed forms in the 1997 Economic Census.

The nonmail portion of the survey is defined as all single-establishment manufacturing companies that we tabulated as administrative records in the 1997 Economic Census. Although this portion includes approximately 155,000 establishments, it accounted for less than 2 percent of the estimate for total value of shipments at the total manufacturing level for 1997. No data are collected from this portion of the population, instead data are estimated based on selected information obtained annually from the administrative records of the Internal Revenue Service (IRS) and the Social Security Administrative (SSA). This administrative information, which includes payroll, total employment, industry classification, and physical location, is obtained under conditions which safeguard the confidentiality of both tax and census records.

III. Data

MB Number: 0607-0449.

Form Number: MA-10000(L), MA-10000(S).

Type of Review: Regular review.

Affected Public: Businesses or other for profit, non-profit Institutions, small businesses or organizations, and State or Local Governments.

Estimated Number of Respondents: 55,000.

Estimated Time Per Response: 3.4 hours.

Estimated Total Annual Burden Hours: 187,000.

Estimated Total Annual Cost: The estimated cost to the respondents is $4,885,410.

Respondent's Obligation: Mandatory.

Legal Authority: Title 13, United States Code, sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 7, 2003.
Madeleine Clayton,
Management Analyst, Office of the Chief Information Officer.

[FR Doc. 03-5965 Filed 3-12-03; 8:45 am]

BILLING CODE 3510-07-P